DEPARTMENT OF COMMERCE

National Oceanic and Atmospheric Administration

50 CFR Part 679

[I.D. 071701C]

RIN 0648-AK70

Fisheries of the Exclusive Economic Zone off Alaska; Individual Fishing Quota Program

AGENCY: National Marine Fisheries Service (NMFS), National Oceanic and Atmospheric Administration (NOAA), Commerce.

ACTION: Notice of availability; request for comments.

SUMMARY: The North Pacific Fishery Management Council (Council) has submitted Amendment 54 to the Fishery Management Plan for Groundfish of the Gulf of Alaska and Amendment 54 to the Fishery Management Plan for the Groundfish Fishery of the Bering Sea and Aleutian Islands Area (FMPs). These amendments would make three changes to the Individual Fishing Quota (IFQ) Program for fixed gear Pacific halibut and sablefish fisheries off Alaska. This action is necessary to improve the effectiveness of the IFQ Program and is intended to promote the objectives of the Magnuson-Stevens Fishery Conservation and Management Act (Magnuson-Stevens Act) with respect to the IFQ fisheries. NMFS is requesting comments from the public on the proposed amendments, copies of which may be obtained from the Council (See ADDRESSES).

DATES: Comments on Amendments 54/54 must be submitted by September 24, 2001.

ADDRESSES: Comments on the proposed amendments should be submitted to Sue Salveson, Assistant Regional Administrator for Sustainable Fisheries, Alaska Region, NMFS, P.O. Box 21668, Juneau, AK 99802, Attn: Lori Gravel, or delivered to the Federal Building, 709 West 9th Street, Juneau, AK. Copies of Amendments 54/54 and the Regulatory Impact Review/Initial Regulatory Flexibility Analysis prepared for the proposed amendments are available from the North Pacific Fishery Management Council, 605 West 4th Ave., Suite 306, Anchorage, AK 99501-2252; telephone 907-271-2809.

FOR FURTHER INFORMATION CONTACT: James Hale, 907-586-7228.

SUPPLEMENTARY INFORMATION:

Background

The Magnuson-Stevens Act requires that each Regional Fishery Management Council submit any FMP or plan amendment it prepares to NMFS for review and approval, disapproval, or partial approval. The Magnuson-Stevens Act also requires that NMFS, after receiving a fishery management plan or amendment, immediately publish a notice in the Federal Register that the fishery management plan or amendment is available for public review and comment. This action constitutes such notice for Amendments 54/54 to the FMPs. NMFS will consider the public comments received during the comment period in determining whether to approve these amendments.

The IFQ Program, a limited access management system for the fixed gear Pacific halibut and sablefish fisheries off Alaska, was approved by NMFS in January 1993, and fully implemented beginning in March 1995. The sablefish IFQ Program is implemented by the FMPs and Federal regulations under 50 CFR part 679, Fisheries of the Exclusive Economic Zone Off Alaska, under authority of the Magnuson-Stevens Act.

Amendments 54/54, if approved, would make three changes in the IFQ Program: (1) Allow a QS holder’s indirect ownership of a vessel, through corporate or other collective ties, to substitute for the QS holder’s vessel ownership in his or her own name for purposes of hiring a skipper to fish the QS holder’s IFQ; (2) add language specific to estates to the definition of “a change in the corporation or partnership” to prevent estates from holding QS indefinitely; and (3) standarize use limits for the two IFQ species, Pacific halibut and sablefish, by revising sablefish use limits from percentages of the total number of QS units in the QS pool to specific numbers of QS units.

Public comments are being solicited on these proposed amendments through the end of the comment period specified in this notice. A proposed rule that would implement the amendments may be published in the Federal Register for public comment following NMFS' evaluation under the Magnuson-Stevens Act procedures. Public comments on the proposed rule must be received by close of business on the last day of the comment period to be considered in the decision to approve or disapprove the amendments. All comments received by the end of the comment period, whether specifically directed to the amendments or to the proposed rule, will be considered in the decision.

Dated: July 17, 2001.
Bruce C. Morehead,
Acting Director, Office of Sustainable Fisheries, National Marine Fisheries Service.

[FR Doc. 01-18416 Filed 7-23-01; 8:45 am]

BILLING CODE 3510-22-S